DEPARTMENT OF COMMERCE

International Trade Administration

[A-570-851]

Certain Preserved Mushrooms From the People's Republic of China: Preliminary Rescission of Antidumping Duty New Shipper Review; 2011-2012

AGENCY: Import Administration, International Trade Administration, Department of Commerce.

DATES: Effective Date: January 18, 2013.

SUMMARY: The Department of Commerce (the Department) is conducting a new shipper review (NSR) of the antidumping duty order on certain preserved mushrooms from the People's Republic of China (PRC). The NSR covers Shandong Yinfeng Rare Fungus Corporation Ltd. (Yinfeng) for the period of review (POR) February 1, 2011, through January 31, 2012. The Department has preliminarily determined that Yinfeng did not satisfy the regulatory requirements for a NSR. Therefore, the Department is preliminarily rescinding this NSR. We invite interested parties to comment on this preliminary rescission of review.

FOR FURTHER INFORMATION CONTACT: Mark Flessner or Robert James, AD/CVD Operations, Office 7, Import Administration, International Trade Administration, U.S. Department of Commerce, 14th Street and Constitution Avenue NW., Washington, DC 20230, telephone: (202) 482-6312 or (202) 482-0649, respectively.

Scope of the Order

The products covered by this order are certain preserved mushrooms, whether imported whole, sliced, diced, or as stems and pieces. The certain preserved mushrooms covered under this order are the species Agaricus bisporus and Agaricus bitorquis. The merchandise subject to this order is classifiable under subheadings: 2003.10.0127, 2003.10.0131, 2003.10.0137, 2003.10.0143, 2003.10.0147, 2003.10.0153, and 0711.51.0000 of the Harmonized Tariff Schedule of the United States (HTSUS). Although the HTSUS subheadings are provided for convenience and customs purposes, our written description of the scope of this proceeding is dispositive. For the complete scope, see Certain Preserved Mushrooms From the People's Republic of China: Final Results of Antidumping Duty Administrative Review, 77 FR 55808 (September 11, 2012).

Methodology

The Department has conducted this review in accordance with section 751(a)(2)(B) of the Tariff Act of 1930, as amended (the Act) and 19 CFR 351.214. For a full description of the methodology underlying our conclusions, see “Decision Memorandum for Preliminary Results of Antidumping Duty New Shipper Review: Certain Preserved Mushrooms from the People's Republic of China,” from Christian Marsh, Deputy Assistant Secretary for Antidumping and Countervailing Duty Operations, to Paul Piquado, Assistant Secretary for Import Administration (Preliminary Decision Memorandum), dated concurrently with these results and hereby adopted by this notice. The Preliminary Decision Memorandum is a public document and is on file electronically via Import Administration's Antidumping and Countervailing Duty Centralized Electronic Service System (IA ACCESS). IA ACCESS is available to registered users at http://iaaccess.trade.gov and in the Central Records Unit, room 7046 of the main Department of Commerce building. In addition, a complete version of the Preliminary Decision Memorandum can be accessed directly on the Internet at http://iaaccess.trade.gov. The signed Preliminary Decision Memorandum and the electronic version of the Preliminary Decision Memorandum are identical in content.

Preliminary Rescission of NSR

Based on information that Yinfeng submitted after the initiation of the NSR, the Department has preliminarily determined that Yinfeng did not meet the minimum requirements in its request for an NSR under 19 CFR 351.214(b)(2)(iv)(C). Therefore, the Department preliminarily determines that it is appropriate to rescind the NSR for Yinfeng.

Assessment Rates

Yinfeng's entries will are currently subject to the PRC-wide rate. Although the Department intends to rescind the NSR for Yinfeng, the Department is currently conducting an administrative review for the POR February 1, 2011, through January 31, 2012, which could include the entries subject to this NSR.¹ Accordingly, if the Department proceeds with a final rescission of this NSR, we will instruct U.S. Customs and Border Protection (CBP) to continue to suspend entries during the period February 1, 2011, through January 31, 2012, of subject merchandise exported by Yinfeng until CBP receives instructions relating to the administrative review covering the period February 1, 2011, through January 31, 2012.

¹ See Initiation of Antidumping and Countervailing Duty Administrative Reviews and Request for Revocation in Part, and Deferral of Administrative Review, 77 FR 19179, 19182 (March 30, 2012).

Cash Deposit Requirements

Effective upon publication of the final rescission or the final results of this NSR, we will instruct CBP to discontinue the option of posting a bond or security in lieu of a cash deposit for entries of subject merchandise by Yinfeng. If we proceed to a final rescission of this NSR, the cash deposit rate will continue to be the ad valorem PRC-wide rate for Yinfeng. If we issue final results of the NSR for this respondent, we will instruct CBP to collect cash deposits, effective upon the publication of the final results, at the rates established therein.

Comments

Interested parties are invited to comment on these preliminary results and submit written arguments or case briefs within 30 days after the date of publication of this notice, unless otherwise notified by the Department.² Parties are reminded that written comments or case briefs are not the place for submitting new factual material. Rebuttal briefs, limited to issues raised in the case briefs, will be due five days later.³ Parties who submit case or rebuttal briefs are requested to submit with each argument: (1) A statement of the issue; and (2) a brief summary of the argument. Parties are requested to provide a summary of the arguments not to exceed five pages and a table of statutes, regulations, and cases cited.

² See 19 CFR 351.309(c)(ii).

³ See 19 CFR 351.309(d).

Any interested party who wishes to request a hearing, or to participate if one is requested, must submit a written request to the Assistant Secretary for Import Administration within 30 days after the day of publication of this notice. A request should contain: (1) The party's name, address, and telephone number; (2) the number of participants; and (3) a list of issues to be discussed.⁴ Issues raised in the hearing will be limited to those raised in case briefs. The Department will issue the final rescission or final results of NSR, including the results of our analysis of issues raised in any briefs, within 90 days after the date on which the preliminary rescissions were issued, unless the deadline for the final results is extended.⁵

⁴ See 19 CFR 351.310(c).

⁵ See 19 CFR 351.214(i).

Notification to Importers

This notice serves as a preliminary reminder to the importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice is published in accordance with sections 751(a)(2)(B) and 777(i) of the Act and 19 CFR 351.214(f).

Dated: January 10, 2013.
Paul Piquado,
Assistant Secretary for Import Administration.

Appendix I

List of Topics Discussed in the Preliminary Decision Memorandum

Failure to satisfy new shipper regulatory requirements—Yinfeng

Rescission of NSR

[FR Doc. 2013-01040 Filed 1-17-13; 8:45 am]

BILLING CODE 3510-DS-P